DEPARTMENT OF THE INTERIOR

National Park Service

DEPARTMENT OF AGRICULTURE

U.S. Forest Service

Potomac-Appalachian Transmission Highline (PATH) Environmental Impact Statement, Harpers Ferry National Historical Park, Appalachian National Scenic Trail, Potomac Heritage National Scenic Trail, Chesapeake and Ohio Canal National Historical Park, and Monongahela National Forest, Maryland, Virginia, and West Virginia

AGENCY: National Park Service, Interior and U.S. Forest Service, Agriculture.

ACTION: Notice of intent to prepare an Environmental Impact Statement (EIS) for construction and right-of-way permits requested from Harpers Ferry National Historical Park (NHP), Appalachian National Scenic Trail (NST), Potomac Heritage National Scenic Trail, Chesapeake and Ohio Canal National Historical Park, and Monongahela National Forest, in connection with the proposed Potomac-Appalachian Transmission Highline (PATH) project.

SUMMARY: Pursuant to the National Environmental Policy Act of 1969, 42 U.S.C. 4332(2)(C), the National Park Service (NPS), lead agency, along with cooperating agencies, the U.S. Forest Service (USFS) and U.S. Army Corps of Engineers, are preparing an Environmental Impact Statement (EIS) and conducting public scoping meetings for construction and right-of-way permits requested from the agencies by PATH Allegheny Transmission Company, LLC; PATH Allegheny Virginia Transmission Corporation; Potomac Edison Company; and PATH West Virginia Transmission Company, LLC, collectively referred to herein as Applicants. The Applicants are seeking permits for proposed construction of a new 765kV electric transmission line that would cross federal lands within Maryland, West Virginia, and Virginia. In May 2009, the Applicants submitted right-of-way applications (Form 299) for those portions of the PATH project proposed to traverse Harpers Ferry NHP, Chesapeake and Ohio Canal NHP, Appalachian NST, Potomac Heritage NST, all managed by the National Park Service; and Monongahela National Forest managed by the U.S. Forest Service. These applications also serve as the application for Special Use Permits for construction of the proposed project.

The Applicants' proposed project would modify and expand existing rights-of-way across Harpers Ferry NHP and Appalachian NST. In particular, the Applicants propose modification and expansion of existing right-of-way agreements held by Potomac Edison Company over Harpers Ferry NHP and Appalachian NST to allow for placement of the 138 kV Millville-Doubs transmission line as an underbuild on the PATH transmission structures; and also the grant of a new 200-feet-wide right-of-way for the PATH transmission line. While the PATH Project would require a 200-feet right-of-way, it would only require an expansion of the existing right-of-way corridor across Harpers Ferry NHP and Appalachian NST by approximately 105 feet.

The Applicants seek a new right-of-way authorization across Chesapeake and Ohio Canal NHP and Potomac Heritage NST. The requested right-of-way would be approximately 200 feet wide, with a distance over the Chesapeake and Ohio Canal NHP and Potomac Heritage NST properties of approximately 400 feet. The proposed crossing route will be adjacent to (on the north side) existing transmission rights-of-way for the 138 kV Millville-Doubs transmission facility operated by Potomac Edison Company and the 500 kV Mt. Storm-Doubs transmission facility operated by Dominion Virginia Power. The Applicants' proposed crossing of the Monongahela National Forest would require USFS authorization for a new 200-feet-wide right-of-way.

The Applicants' stated purpose for the PATH project is to strengthen the electrical transmission grid for reliability purposes at the direction of PJM Interconnection, LLC (PJM), the regional transmission organization. PJM oversees the overall movement of wholesale electricity throughout a region comprising all or parts of 13 states and the District of Columbia. PJM has a duty to maintain reliability of the transmission grid according to standards set by the North American Electric Reliability Corporation and approved by the Federal Energy Regulatory Commission. PJM's Regional Transmission Expansion Plan has identified numerous projected reliability criteria violations that the proposed PATH project is designed to alleviate and has directed construction of a line of sufficient capacity to address these violations by connecting the existing Amos Substation in Putnam County, West Virginia, with two existing 500 kV transmission lines that are in close proximity to each other at a point approximately three miles southeast of New Market, Maryland.

The federal action under consideration in this EIS is the Applicants' proposal that the National Park Service and U.S. Forest Service grant the requested permits. The agencies' purpose in taking action is to respond to the application for permits in consideration of the needs expressed therein and the public interest, and in light of the missions, purposes and resource management of the affected NPS and USFS units, as expressed in statutes, regulations, and policies.

Federal action is needed because the Applicants have submitted the required applications to the National Park Service in accordance with 36 CFR part 14 and applicable NPS management policies and to the U.S. Forest Service in accordance with 36 CFR part 251.54 and Special Uses Handbook (FSH 2709.11). The National Park Service and U.S. Forest Service therefore have a responsibility to consider whether, and with what conditions, if any, to issue the requested permits.

The National Park Service and U.S. Forest Service will analyze no-action and proposed action alternatives and possibly other alternatives or mitigation strategies that respond to the purpose, need, and objectives of this proposal. The goal of the National Park Service and U.S. Forest Service is to identify issues and concerns with the proposed action, additional alternatives, and alternative mitigation strategies through the public scoping process.

This notice initiates the public participation and scoping process for the EIS. The public is invited to comment on the purpose, need and objectives for federal action, the proposed action and alternatives to the proposed action to be analyzed in the EIS, the appropriate scope of analysis, or any issues associated with the proposal. More information about the purpose of and need for federal action, and issues identified to date is available from the NPS planning Web site at http://parkplanning.nps.gov/appa/. It is important that reviewers provide their comments at such times and in such a manner that they are useful to the agency's preparation of the EIS. Therefore, comments should be provided prior to the close of the comment period and should clearly articulate the reviewers concerns and comments. The submission of timely and specific comments can affect a reviewer's ability to participate in subsequent administrative appeal or judicial review.

Dates and Meeting Notices: The public scoping period will commence on the date this notice is published in the Federal Register and last for at least 30 days or until 15 days after the last public scoping meeting. The National Park Service and U.S. Forest Service will hold public meetings near the parks and forest to provide the public an opportunity to review the proposal and project information, and provide comments. All public meetings will be announced through local media, mailings, and the NPS planning Web site at http://parkplanning.nps.gov/appa/, at least 15 days prior to each meeting. The meetings will be concluded at least 15 days prior to the close of comment.

ADDRESSES: Comments on issues, potential impacts, or suggestions for additional alternatives can be submitted using any one of the following methods. You may submit comments through the NPS planning Web site at http://parkplanning.nps.gov/appa/, which is the preferred method. You may mail your comments to the National Park Service, Attention: PATH EIS Planning Team, Denver Service Center—Planning, P.O. Box 25287, Denver, CO 80225. Comments may also be submitted at any of the three public meetings to be announced.

FOR FURTHER INFORMATION CONTACT: Morgan Elmer, Project Manager, Denver Service Center—Planning, P.O. Box 25287, Denver, Co 80225, telephone 303-969-2317.

Before including your address, phone number, e-mail address or other personal identifying information in your comment, you should be aware your entire comment—including your personal identifying information—may be made publicly available at any time. While you can ask us in your comment to withhold identifying information from public review, we cannot guarantee that we will be able to do so. All submissions from organizations and businesses, and from individuals identifying themselves as representatives or officials of organizations or businesses, will be available for public inspection in their entirety. The National Park Service and U.S. Forest Service will not consider anonymous comments. All others will be included in the administrative record upon which the National Park Service and U.S. Forest Service will ultimately reach a decision.

Margaret O'Dell,
Regional Director, National Capital Region, National Park Service.
Pam Underhill,
Superintendent, Appalachian National Scenic Trail, National Park Service.
Jason Reed,
District Ranger, Monongahela National Forest, U.S. Forest Service.

[FR Doc. 2010-14581 Filed 6-16-10; 8:45 am]

BILLING CODE 4310-70-P